NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 15, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

Fax: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Military Services Personnel Command (N1-330-04-1, 3 items, 2 temporary items). Paper, microform, or electronic source documents used to create electronic official military personnel files documenting the career of each officer and enlisted member of the military (including members of the Coast Guard) from time of entry into service until final separation. Also included are documents within individual files whose destruction is mandated by the appropriate Military Service Secretary acting through the Military Corrections Board. Recordkeeping copies of these files are proposed for permanent retention. Files for current active, reserve, and guard personnel are maintained in imaged record systems operated by each of the Military Services. Older records are paper and/or microform.

2. Department of Homeland Security, Bureau of Citizenship and Immigration Services (N1-563-04-2, 9 items, 9 temporary items). Inputs, outputs, master files, and documentation associated with the enforcement operational database used to maintain immigration control, including the identification, apprehension, and removal of aliens unlawfully entering or present in the country.

3. Department of Homeland Security, Bureau of Citizenship and Immigration Services (N1-563-04-3, 4 items, 4 temporary items). Inputs, outputs, master files, and documentation associated with an electronic tracking system used in processing applications and petitions submitted by individuals requesting immigration benefits.

4. Department of Homeland Security, Bureau of Citizenship and Immigration Services (N1-563-04-4, 4 items, 4 temporary items). Inputs, outputs, master files, and documentation associated with an electronic tracking system used to process and track applications associated with naturalization and/or citizenship and to replace naturalization/citizenship certificates.

5. Department of Homeland Security, Bureau of Citizenship and Immigration Services N1-563-04-5, 5 items, 5 temporary items). Inputs, outputs, master files, and documentation associated with the Refugee Access Verification System, which is used to review and verify family relationships of refugees applying for admission into the United States.

6. Department of Homeland Security, Bureau of Citizenship and Immigration Services (N1-563-04-7, 5 items, 5 temporary items). Inputs, outputs, master files, and documentation associated with the Asylum Pre-screening System, an electronic system used to manage, control, and track adjudication actions.

7. Department of Homeland Security, Bureau of Citizenship and Immigration Services (N1-563-04-8, 4 items, 4 temporary items). Inputs, outputs, master files, and documentation associated with an electronic records system used to create Certificates of Citizenship for foreign-born children of American citizens, including adopted children.

8. Department of Justice, Bureau of Alcohol, Tobacco, Firearms, and Explosives (N1-436-03-3, 5 items, 5 temporary items). Master files, outputs, and documentation associated with the Forfeited Asset Tracking System, an electronic system used to track seized and forfeited property and to ensure that agency employees follow uniform and accurate forfeiture procedures. Also included are electronic copies of documents created using electronic mail and word processing.

9. Department of Justice, United States Marshals Service (N1-527-04-1, 3 items, 3 temporary items). Forms relating to sequestered juries. These records pertain to such matters as instructions to the jury, room assignments, authorized visitors, incoming and outgoing mail, and transportation. Also included are electronic copies of documents created using electronic mail and word processing.

10. Department of the Treasury, Bureau of Engraving and Printing (N1-318-04-3, 8 items, 7 temporary items). Case and subject files relating to litigation or the agency's legal position. Included are correspondence, memorandums, and other records. Reports relating to litigation are also included as are electronic copies of records created using electronic mail and word processing. Recordkeeping copies of historically significant files are proposed for permanent retention.

11. Department of the Treasury, Bureau of Engraving and Printing (N1-318-04-13, 5 items, 4 temporary item). Orders, schedules, logs, and other records relating to ink manufacturing and production. Also included are electronic copies of records created using electronic mail and word processing. Recordkeeping copies of research and development records pertaining to inks used in printing currency and other agency products are proposed for permanent retention.

12. Department of the Treasury, Office of Thrift Supervision (N1-483-04-1, 7 items, 6 temporary items). Working papers relating to examinations of thrifts, holding companies, and IT service providers, which were previously scheduled for permanent retention. Also included are electronic copies of documents created using electronic mail and word processing. Recordkeeping copies of corporate structure files are proposed for permanent retention.

13. Environmental Protection Agency, Office of Environmental Information (N1-412-03-17, 3 items, 3 temporary items). Electronic software programs, electronic data, and system documentation associated with an electronic system used for compliance reports received from industry and Government partners.

14. Environmental Protection Agency, Office of the Administrator (N1-412-03-21, 2 items, 2 temporary items). Records relating to discrimination complaints filed by individuals or groups alleging civil rights violations by agency-funded entities. Also included are electronic copies of records created using electronic e-mail and word processing.

15. National Archives and Records Administration, Office of Records Services—Washington, DC (N1-64-04-3, 2 items, 1 temporary item). Working papers and background information used to prepare a report relating to the disposal of certain Naval Research Laboratory records stored at the Washington National Records Center. Proposed for permanent retention is the recordkeeping copy of the final report.

16. Tennessee Valley Authority, Labor Relations (N1-142-04-4, 5 items, 5 temporary items). Records relating to labor negotiations, including agency appeals to the Department of Labor. Also included are electronic copies of documents created using electronic mail and word processing.

Dated: January 4, 2004.
Michael J. Kurtz,
Assistant Archivist for Record Services—Washington, DC.

[FR Doc. 04-1738 Filed 1-27-04; 8:45 am]

BILLING CODE 7515-01-P